DEPARTMENT OF EDUCATION

Advisory Commission on Accessible Instructional Materials in Postsecondary Education for Students With Disabilities

AGENCY: U.S. Department of Education, Office of Special Education and Rehabilitative Services, Advisory Commission on Accessible Instructional Materials in Postsecondary Education for Students with Disabilities.

ACTION: Correction; Notice of an open meeting via Conference Call.

SUMMARY: On October 4, 2011, we published in the Federal Register (76 FR 61349) a notice setting forth the schedule and agenda of the meeting of the Advisory Commission on Accessible Instructional Materials in Postsecondary Education for Students with Disabilities, originally scheduled for October 24, 2011 from 11 a.m. to 5 p.m. Through this notice, we are correcting the date of the meeting. The meeting will be held on Monday, October 31, 2011 from 11 a.m. to 5 p.m.

DATES: October 31, 2011.

Time: 11 a.m.-5 p.m., Eastern Standard Time

ADDRESSES: The Commission will meet via conference call on October 31, 2011.

FOR FURTHER INFORMATION CONTACT: Elizabeth Shook, Program Specialist, Office of Special Education and Rehabilitative Services, United States Department of Education, 550 12th Street, SW., Washington, DC 20202; telephone: (202) 245-7642, fax: 202-245-7638.

Dated: October 6, 2011.
Alexa Posny,
Assistant Secretary, Office of Special Education and Rehabilitative Services.

[FR Doc. 2011-26370 Filed 10-11-11; 8:45 am]

BILLING CODE 4000-01-P